UNITED STATES SENTENCING COMMISSION

Sentencing Guidelines for United States Courts

AGENCY: United States Sentencing Commission.

ACTION: Notice of preliminary policy priorities for amendment cycle ending May 1, 2001. Request for comment.

SUMMARY: As part of its statutory authority and responsibility to analyze sentencing issues, including operation of the federal sentencing guidelines, and in accordance with Rule 5.2 of its Rules of Practice and Procedure, the Commission has preliminarily identified and hereby proposes certain priorities as the focus of its policy development work, including possible amendments to guidelines, policy statements, and commentary, for the amendment cycle ending May 1, 2001. The Commission invites comment on these proposed priority areas and on any other sentencing issues that it should address in the coming year.

DATES: Public comment should be received by the Commission not later than July 7, 2000.

ADDRESSES: Send comment to: United States Sentencing Commission, One Columbus Circle, NE, Suite 2-500, South Lobby, Washington, DC 20002-8002. Attn: Public Affairs.

FOR FURTHER INFORMATION CONTACT: Michael Courlander, Public Affairs Officer, Telephone: (202) 502-4590.

SUPPLEMENTARY INFORMATION: The United States Sentencing Commission, an independent commission in the judicial branch of the United States Government, is empowered by 28 U.S.C. 994(a) to promulgate sentencing guidelines and policy statements for federal courts. Section 994 also directs the Commission to review and revise periodically promulgated guidelines and authorizes it to submit guideline amendments to the Congress not later than the first day of May each year. See 18 U.S.C. 994(o), (p).

The Commission hereby gives notice that, during the amendment cycle ending May 1, 2001, it may consider possible amendments to guidelines, policy statements, and commentary, relating to the following: (1) Certain economic crimes, particularly fraud, theft, and tax offenses; (2) money laundering; (3) counterfeiting of bearer obligations of the United States; (4) further response to the Protection of Children from Sexual Predators Act of 1998; (5) firearms; (6) nuclear, chemical, and biological weapons, and related national security issues; (7) the payment to, or receipt by, federal employees of unauthorized compensation, and related offenses; (8) offenses implicating the privacy interests of taxpayers; (9) the resolution of a number of conflicts among the circuit courts on sentencing guideline issues; (10) the implementation of any crime legislation enacted during the second session of the 106th Congress requiring a Commission response; and (11) any minor technical or conforming amendments necessary for proper operation of the sentencing guideline system.

In addition to inviting comment on any of the preliminary priority issues proposed in this notice, the Commission welcomes comment on any other issue that interested persons believe the Commission should address during the amendment cycle ending May 1, 2001, including short-and long-term research issues. To the extent practicable, comments submitted on additional issues should include the following: (1) A statement of the issue, including the scope and manner of study, particular problem areas and possible solutions, and any other matters relevant to a proposed priority; (2) citations to applicable sentencing guidelines, statutes, case law, and constitutional provisions; and (3) a direct and concise statement of why the Commission should make the issue a priority.

Authority: 28 U.S.C. § 994(a), (o), (p); USSC Rules of Practice and Procedure 5.2.

Diana E. Murphy,
Chair.

[FR Doc. 00-14781 Filed 6-9-00; 8:45 am]

BILLING CODE 2210-01-U